DEPARTMENT OF TRANSPORTATION

Federal Aviation Administration

14 CFR Part 39

[Docket No. FAA-2020-0171; Product Identifier 2018-SW-028-AD]

RIN 2120-AA64

Airworthiness Directives; Bell Helicopter Textron, Inc. Helicopters

AGENCY: Federal Aviation Administration (FAA), DOT.

ACTION: Notice of proposed rulemaking (NPRM).

SUMMARY: The FAA proposes to adopt a new airworthiness directive (AD) for Bell Helicopter Textron, Inc. (Bell) Model 214ST helicopters. This proposed AD was prompted by the discovery of bolts with nonconforming external thread root radii. This proposed AD would require removing the affected bolts from service and would prohibit installing an affected bolt on any helicopter. The FAA is proposing this AD to address the unsafe condition on these products.

DATES: The FAA must receive comments on this proposed AD by April 13, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For service information identified in this NPRM, contact Bell Helicopter Textron, Inc., P.O. Box 482, Fort Worth, TX 76101; telephone 817-280-3391; fax 817-280-6466; or at https://www.bellcustomer.com. You may view the referenced service information at the FAA, Office of the Regional Counsel, Southwest Region, 10101 Hillwood Pkwy., Room 6N-321, Fort Worth, TX 76177.

Examining the AD Docket

You may examine the AD docket on the internet at https://www.regulations.gov by searching for and locating Docket No. FAA-2020-0171; or in person at Docket Operations between 9 a.m. and 5 p.m., Monday through Friday, except Federal holidays. The AD docket contains this NPRM, any comments received, and other information. The street address for Docket Operations is listed above. Comments will be available in the AD docket shortly after receipt.

FOR FURTHER INFORMATION CONTACT: Haytham Alaidy, Aviation Safety Engineer, DSCO Branch, Compliance and Airworthiness Division, FAA, 10101 Hillwood Pkwy., Fort Worth, TX 76177; phone: 817-222-5224; fax: 817-222-4960; email haytham.alaidy@faa.gov.

SUPPLEMENTARY INFORMATION:

Comments Invited

The FAA invites you to send any written relevant data, views, or arguments about this proposal. Send your comments to an address listed under the ADDRESSES section. Include “FAA-2020-0171; Product Identifier 2018-SW-028-AD” at the beginning of your comments. The FAA specifically invites comments on the overall regulatory, economic, environmental, and energy aspects of this NPRM. The FAA will consider all comments received by the closing date and may amend this NPRM because of those comments.

The FAA will post all comments received, without change, to https://www.regulations.gov, including any personal information you provide. The FAA will also post a report summarizing each substantive verbal contact received about this NPRM.

Discussion

The FAA proposes to adopt a new AD for Bell Model 214ST helicopters with certain serial-numbered spindle to yoke bolts (bolts) part number (P/N) 214-010-262-103 installed. Bell indicates that a former bolt supplier manufactured a number of P/N 214-010-262-103 bolts with nonconforming external thread root radii. This proposed AD would apply to Model 214ST helicopters with a non-conforming bolt installed and would require removing each bolt from service. The proposed AD would also prohibit installing a non-conforming bolt on any helicopter. The proposed actions are intended to prevent the spindle separating from the yoke and subsequent loss of control of the helicopter.

Related Service Information

The FAA reviewed Bell Helicopter Textron Alert Service Bulletin 214ST-18-93 Revision A, dated April 17, 2019, for Model 214ST helicopters. This service information specifies inspecting the historical records and spare parts to determine the serial number (S/N) of each bolt. If the S/N of the bolt indicates it is a non-conforming bolt, the service information specifies torque checking the bolt every 25 hours until the bolt reaches its life limit.

FAA's Determination

The FAA is proposing this AD after evaluating all the relevant information and determining that the unsafe condition described previously is likely to exist or develop in other products of the same type design.

Proposed AD Requirements

This proposed AD would apply to Model 214ST helicopters with a bolt P/N 214-010-262-103 with S/N BH179163, BH179164, BH179169, BH179170, BH179171, BH179175, BH179176, BH179178, BH224783, BH224751, BH224756, BH224764, BH224765, BH383851, BH383853, BH383855, BH383856, BH383857, BH383858, BH383860, BH383861, BH383862, BH383864, BH383865, BH383868, BH383872, BH383873, BH383878, or BH383879 installed. This proposed AD would require, within 25 hours time-in-service (TIS), removing each affected bolt from service. This proposed AD would also prohibit, after the effective date of this AD, installing an affected bolt on any helicopter.

Differences Between This Proposed AD and the Service Information

The service information specifies torque checking the bolt every 25 hours until it is replaced upon reaching its life limit, while this proposed AD would require removing each bolt from service within 25 hours TIS.

Costs of Compliance

The FAA estimates that this proposed AD would affect 16 helicopters of U.S. registry. The FAA estimates that operators may incur the following costs in order to comply with this proposed AD. Labor costs are estimated at $85 per work-hour.

Replacing 1 bolt would take about 8 work-hours and parts would cost about $7,073 for an estimated cost of $7,753 per helicopter.

The FAA has no way of determining the number of bolts that might need to be replaced.

According to the manufacturer, some of the costs of this proposed AD may be covered under warranty, thereby reducing the cost impact on affected individuals. The FAA does not control warranty coverage for affected individuals. As a result, all costs are included in this cost estimate.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Bell Helicopter Textron, Inc.: Docket No. FAA-2020-0171; Product Identifier 2018-SW-028-AD.

(a) Comments Due Date

The FAA must receive comments by April 13, 2020.

(b) Affected ADs

None.

(c) Applicability

This AD applies to Bell Helicopter Textron, Inc. Model 214ST helicopters, certificated in any category, with a spindle to yoke bolt (bolt) part number (P/N) 214-010-262-103 and serial number (S/N) BH179163, BH179164, BH179169, BH179170, BH179171, BH179175, BH179176, BH179178, BH224783, BH224751, BH224756, BH224764, BH224765, BH383851, BH383853, BH383855, BH383856, BH383857, BH383858, BH383860, BH383861, BH383862, BH383864, BH383865, BH383868, BH383872, BH383873, BH383878, or BH383879 installed.

(d) Subject

Joint Aircraft System Component (JASC) Code 6200, Main Rotor.

(e) Unsafe Condition

This AD was prompted by the discovery that bolts have nonconforming external thread root radii. The unsafe condition, if not addressed, could result in the spindle separating from the yoke and subsequent loss of control of the helicopter.

(f) Compliance

Comply with this AD within the compliance times specified, unless already done.

(g) Required Actions

(1) Within 25 hours time-in-service, remove from service each bolt listed in paragraph (c) of this AD.

(2) After the effective date of this AD, do not install on any helicopter a bolt with a P/N and S/N listed in paragraph (c) of this AD.

(h) Alternative Methods of Compliance (AMOCs)

(1) The Manager, DSCO Branch, Compliance and Airworthiness Division, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (i)(1) of this AD. Information may be emailed to: 9-ASW-190-COS@faa.gov.

(2) Before using any approved AMOC, notify your appropriate principal inspector, or lacking a principal inspector, the manager of the local flight standards district office/certificate holding district office.

(i) Related Information

(1) For more information about this AD, contact Haytham Alaidy, Aviation Safety Engineer, DSCO Branch, Compliance and Airworthiness Division, FAA, 10101 Hillwood Pkwy., Fort Worth, TX 76177; phone: 817-222-5224; fax: 817-222-4960; email: haytham.alaidy@faa.gov.

(2) For information about AMOCs, contact 9-ASW-190-COS@faa.gov.

Issued in Fort Worth, Texas, on February 13, 2020.

Lance T. Gant,
Director, Compliance & Airworthiness Division, Aircraft Certification Service.

[FR Doc. 2020-03851 Filed 2-25-20; 8:45 am]

BILLING CODE 4910-13-P